DEPARTMENT OF THE TREASURY

Submission for OMB Review; Comment Request

ACTION: Notice; correction.

SUMMARY: The Department of the Treasury published a document in the Federal Register on June 21, 2012, inviting comments on collections of information submitted to the Office of Management and Budget (OMB) for review. This document contained an incorrect reference.

Correction

In the Federal Register of June 21, 2012, in FR Doc. 2012-15180, make the following correction:

• Page 37475, in the first column, under Title: Formula and Process for Domestic and Imported Alcohol Beverages, Form: replace “5000.24” with “5100.51”.

Dated: June 25, 2012.
Dawn D. Wolfgang,
Treasury PRA Clearance Officer.

[FR Doc. 2012-15821 Filed 6-27-12; 8:45 am]

BILLING CODE 4810-31-P